DEPARTMENT OF ENERGY

Federal Energy Regulatory Commission

[Docket No. RP02-340-000]

ANR Pipeline Company; Notice of Tariff Filing

May 24, 2002.

Take notice that on May 14, 2002, ANR Pipeline Company (“ANR”) filed tariff sheets that provide for contract demand reduction rights under specified circumstances. The proposed tariff would allow shippers to elect from four types of contract demand reduction options if they meet specified eligibility requirements. These options are designed to address specified circumstances that may result in the need for a shipper to reduce its contract demand. They include (1) a Loss of Load; (2) a Plant Outage; and (3) a Regulatory Unbundling Order. ANR has also included a fourth option for shippers that are captive to ANR for transportation service (“Sole Supply Customers”) to reduce specified levels of contract demand for any reason. ANR proposes an effective date of June 15, 2002.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-13680 Filed 5-30-02; 8:45 am]

BILLING CODE 6717-01-P